DEPARTMENT OF THE TREASURY

Office of Foreign Assets Control

Additional Designation of Individuals and Entities Pursuant to Executive Order 13382

AGENCY: Office of Foreign Assets Control, Treasury.

ACTION: Notice.

SUMMARY: The Treasury Department's Office of Foreign Assets Control (“OFAC”) is publishing the names of four newly-designated individuals and twelve newly-designated entities whose property and interests in property are blocked pursuant to Executive Order 13382 of June 28, 2005, “Blocking Property of Weapons of Mass Destruction Proliferators and Their Supporters.” OFAC also is publishing the names of 27 vessels identified as property blocked because of their connection to IRISL and is updating the entries of 71 already-blocked vessels to identify new names.

DATES: The designation by the Director of OFAC of the four individuals and twelve entities identified in this notice pursuant to Executive Order 13382 is effective on June 16, 2010.

FOR FURTHER INFORMATION CONTACT: Assistant Director, Compliance Outreach & Implementation, Office of Foreign Assets Control, Department of the Treasury, Washington, DC 20220, tel.: (202) 622-2490.

SUPPLEMENTARY INFORMATION:

Electronic and Facsimile Availability

This document and additional information concerning OFAC are available from OFAC's Web site (http://www.treas.gov/offices/enforcement/ofac) or via facsimile through a 24-hour fax on-demand service, tel.: (202) 622-0077.

Background

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 29, 2005. In the Order, the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

On June 16, 2010, the Director of OFAC, in consultation with the Departments of State, Justice, and other relevant agencies, designated four individuals and 12 entities whose property and interests in property are blocked pursuant to Executive Order 13382.

The List of Additional Designees is as Follows

Individuals

1. JAFARI, Mohammad Ali; (a.k.a. JAFARI-NAJAFABADI); c/o IRGC, Tehran, Iran; DOB 1957; POB Yazd, Iran; nationality Iran; Commander-in-Chief, IRGC (individual) [NPWMD] [IRGC].

2. NAQDI, Mohammad Reza; DOB circa 1952; alt DOB circa March 1961; alt DOB circa April 1961; POB Najaf, Iran; alt POB Tehran, Iran; Brigadier General and Commander of the IRGC Basij Resistance Force (individual) [IRGC] [NPWMD].

3. SABET, Javad Karimi; c/o Novin Energy Company, Tehran, Iran; DOB 25 July 1973 (individual) [NPWMD].

4. VAHIDI, Ahmad; c/o MODAFL, Tehran, Iran; DOB 1958; POB Shiraz, Iran; nationality Iran; Brigadier General (individual) [NPWMD].

Entities

1. HAFIZ DARYA SHIPPING CO; (a.k.a. HAFIZ DARYA SHIPPING LINES COMPANY; a.k.a. HDS LINES); No 60, Ehteshamiyeh Square, 7th Neyestan Street, Pasdaran Avenue, Tehran, Iran; Business Registration Document #5478431 issued Mar 2009 [NPWMD].

2. IRGC AIR FORCE; (a.k.a. ISLAMIC REVOLUTIONARY GUARD CORPS AIR FORCE; a.k.a. SEPAH PASDARAN AIR FORCE); Tehran, Iran [IRGC] [NPWMD].

3. IRGC MISSILE COMMAND; (a.k.a. ISLAMIC REVOLUTIONARY GUARD CORPS MISSILE COMMAND); Tehran, Iran [IRGC] [NPWMD].

4. JAVEDAN MEHR TOOS; Tehran, Iran [NPWMD].

5. NAVAL DEFENSE MISSILE INDUSTRY GROUP; (a.k.a. 8TH IMAM INDUSTRIES GROUP; a.k.a. CRUISE MISSILE INDUSTRY GROUP; a.k.a. CRUISE SYSTEMS INDUSTRY GROUP; a.k.a. SAMEN AL-A'EMMEH INDUSTRIES GROUP); Tehran, Iran [NPWMD].

6. POST BANK OF IRAN; 237 Motahari Avenue, Tehran 1587618118, Iran [NPWMD] [IFSR].

7. RAH SAHEL INSTITUTE; Tehran, Iran [NPWMD] [IRGC].

8. SAFIRAN PAYAM DARYA SHIPPING COMPANY; (a.k.a. SAPID SHIPPING CO); No. 3, 8th Narenjestan Street, Artesh Boulevard, Farmaniyah Avenue, Tehran, Iran; P.O. Box 1963116, Tehran, Iran; No. 33, 8th Narenjestan Street, Artesh Boulevard, Aghdasieh, Tehran, Iran; Web site http://www.sapidshpg.com [NPWMD].

9. SEIBOW LIMITED; Room 803, 8/F, Futura Plaza, 111 How Kimg Street, Kwun Tong, Kowloon, Hong Kong, China; Business Registration Document #926320 issued 6 Oct 2004 [NPWMD].

10. SEIBOW LOGISTICS LIMITED; Room 803, 8/F, Futura Plaza, 111 How Kimg Street, Kwun Tong, Kowloon, Hong Kong, China; Business Registration Document #1218675 issued 18 Mar 2008 [NPWMD].

11. SEPANIR; (a.k.a. SEPANIR ESTABLISHMENT; a.k.a. SEPANIR OIL AND GAS ENGINEERING COMPANY); No 319 Shahid Bahonar Street, Tehran, Iran [NPWMD] [IRGC].

12. SOROUSH SARZAMIN ASATIR SHIP MANAGEMENT COMPANY; No. 5 Shabnam Alley, Golzar Street, Fajr Street, Shahid Motahari Avenue, Tehran 193651, Iran; P.O. Box 19365-1114, Tehran, Iran; Business Registration Document #5466371 issued 2009 [NPWMD].

In addition to the individuals and entities listed above, OFAC has identified the following 27 vessels as property of the Islamic Republic of Iran Shipping Lines (IRISL). OFAC has also updated 71 already-blocked IRISL vessels to identify new names given to those vessels. Banks are instructed to reject any funds transfer referencing a blocked vessel and must notify OFAC, via facsimile with a copy of the payment instructions that funds have been returned to the remitter due to the possible involvement of a SDN vessel in the underlying transaction.

Newly Identified Vessels

1. AAJ 72DWT 103GRT IRAN flag (IRISL); Vessel Registration Identification IMO 8984484 (vessel) [NPWMD].

2. AALI Bulk Carrier 53,500DWT 32,474GRT MALTA flag; Vessel Registration Identification IMO 9405942 (Malta) (vessel) [NPWMD].

3. ABTIN 1 Container Ship 13,760DWT 9,957GRT IRAN flag (IRISL); Vessel Registration Identification IMO 9379636 (Iran) (vessel) [NPWMD].

4. ALIM Bulk Carrier 53,100DWT 31,117GRT MALTA flag (IRISL); Vessel Registration Identification IMO 9465849 (Malta) (vessel) [NPWMD].

5. AZIM Bulk Carrier 53,100DWT 31,117GRT MALTA flag (IRISL); Vessel Registration Identification IMO 9465760 (Malta) (vessel) [NPWMD].

6. BAAGHI Bulk Carrier 53,457DWT 32,474GRT MALTA flag; Vessel Registration Identification IMO 9405930 (Malta) (vessel) [NPWMD].

7. BAANI Bulk Carrier 53,500DWT 32,474GRT MALTA flag; Vessel Registration Identification IMO 9405954 (Malta) (vessel) [NPWMD].

8. EIGHTH OCEAN General Cargo 22,882DWT 15,670GRT GERMANY flag (IRISL); Vessel Registration Identification IMO 9165803 (Germany) (vessel) [NPWMD].

9. FIRST OCEAN Container Ship 85,896DWT 74,175GRT MALTA flag (IRISL); Vessel Registration Identification IMO 9349576 (Malta) (vessel) [NPWMD].

10. FOURTH OCEAN Container Ship 82,200DWT 74,200GRT MALTA flag (IRISL); Vessel Registration Identification IMO 9349605 (Malta) (vessel) [NPWMD].

11. GLORY Bulk Carrier 76,500DWT 41,226GRT MALTA flag (IRISL); Vessel Registration Identification IMO 9369710 (Malta) (vessel) [NPWMD].

12. GRACEFUL Bulk Carrier 76,000DWT 41,226GRT MALTA flag (IRISL); Vessel Registration Identification IMO 9369722 (Malta) (vessel) [NPWMD].

13. HAADI Bulk Carrier 53,442DWT 32,474GRT MALTA flag; Vessel Registration Identification IMO 9387798 (Malta) (vessel) [NPWMD].

14. HAAMI Bulk Carrier 53,500DWT 32,474GRT MALTA flag; Vessel Registration Identification IMO 9405966 (Malta) (vessel) [NPWMD].

15. HAKIM Bulk Carrier 53,100DWT 31,117GRT MALTA flag (IRISL); Vessel Registration Identification IMO 9465863 (Malta) (vessel) [NPWMD].

16. IRAN BEHESHTI 38,411DWT 21,999GRT IRAN flag (IRISL); Vessel Registration Identification IMO 7389792 (Iran) (vessel) [NPWMD].

17. IRAN KONG 0DWT 63GRT IRAN flag (IRISL); Vessel Registration Identification IMO 9007582 (Iran) (vessel) [NPWMD].

18. MEKONG SPIRIT Container Ship 12,380DWT 9,616GRT CYPRUS flag (HAFIZ DARYA SHIPPING COMPANY); Vessel Registration Identification IMO 9118513 (Cyprus) (vessel) [NPWMD].

19. PALMARY (a.k.a. IRAN ZAGROS; a.k.a. ZAGROS) Container Ship 54,340DWT 54,851GRT MALTA flag; Vessel Registration Identification IMO 9346548 (Malta) (vessel) [NPWMD].

20. RAAZI Bulk Carrier 53,412DWT 32,474GRT MALTA flag; Vessel Registration Identification IMO 9387803 (Malta) (vessel) [NPWMD].

21. SAEI Bulk Carrier 53,386DWT 32,474GRT MALTA flag; Vessel Registration Identification IMO 9387815 (Malta) (vessel) [NPWMD].

22. SAMIN 1 Container Ship 13,739DWT 9,957GRT MALTA flag (IRISL); Vessel Registration Identification IMO 9420370 (Malta) (vessel) [NPWMD].

23. SECOND OCEAN Container Ship 86,018DWT 74,175GRT MALTA flag (HDS); Vessel Registration Identification IMO 9349588 (Malta) (vessel) [NPWMD].

24. SHAADI Bulk Carrier 53,500DWT 32,474GRT MALTA flag; Vessel Registration Identification IMO 9405978 (Malta) (vessel) [NPWMD].

25. SHAYAN 1 Container Ship 13,772DWT 9,957GRT IRAN flag (IRISL); Vessel Registration Identification IMO 9420356 (Iran) (vessel) [NPWMD].

26. TABAN 1 Container Ship 13,734DWT 9,957GRT IRAN flag (IRISL); Vessel Registration Identification IMO 9420368 (Iran) (vessel) [NPWMD].

27. THIRD OCEAN Container Ship 85,878DWT 74,175GRT MALTA flag (IRISL); Vessel Registration Identification IMO 9349590 (Malta) (vessel) [NPWMD].

Already-Blocked Vessels Updated With New Names

1. ABBA (a.k.a. IRAN MARTIN) General Cargo 24,065DWT 16,621GRT IRAN flag (IRISL); Vessel Registration Identification IMO 9051624 (vessel) [NPWMD].

2. ACCURATE (a.k.a. DRIFTER; a.k.a. IRAN DRIFTER) Bulk Carrier 43,499DWT 25,770GRT HONG KONG flag (IRISL); Vessel Registration Identification IMO 8320169 (vessel) [NPWMD].

3. ACENA (a.k.a. IRAN KERMANSHAH) Bulk Carrier 75,249DWT 40,609GRT CYPRUS flag (IRISL); Vessel Registration Identification IMO 9213399 (vessel) [NPWMD].

4. ACROBAT (a.k.a. DEVOTIONAL; a.k.a. IRAN DEVOTIONAL) Bulk Carrier 43,330DWT 25,768GRT HONG KONG flag (IRISL); Vessel Registration Identification IMO 8309684 (vessel) [NPWMD].

5. ADMIRAL (a.k.a. DAIS; a.k.a. IRAN DAIS) Bulk Carrier 43,406DWT 25,768GRT HONG KONG flag (IRISL); Vessel Registration Identification IMO 8309696 (vessel) [NPWMD].

6. ADRIAN (a.k.a. DELIGHT; a.k.a. IRAN DELIGHT; a.k.a. IRAN JAMAL) Bulk Carrier 43,218DWT 25,768GRT HONG KONG flag (IRISL); Vessel Registration Identification IMO 8320133 (vessel) [NPWMD].

7. ADVENTIST (a.k.a. IRAN MADANI) Bulk Carrier 43,369DWT 25,768GRT HONG KONG flag (IRISL); Vessel Registration Identification IMO 8309622 (Hong Kong) (vessel) [NPWMD].

8. AEROLITE (a.k.a. DELEGATE; a.k.a. IRAN DELEGATE) Bulk Carrier 43,265DWT 25,768GRT HONG KONG flag (IRISL); Vessel Registration Identification IMO 8320121 (vessel) [NPWMD].

9. AGEAN (a.k.a. DYNAMIZE; a.k.a. IRAN DYNAMIZE) Bulk Carrier 43,369DWT 25,768GRT HONG KONG flag (IRISL); Vessel Registration Identification IMO 8309634 (vessel) [NPWMD].

10. AGILE (a.k.a. DECOROUS; a.k.a. IRAN DECOROUS) Bulk Carrier 43,369DWT 25,768GRT HONG KONG flag (IRISL); Vessel Registration Identification IMO 8309658 (vessel) [NPWMD].

11. AJAX (a.k.a. DYNASTY; a.k.a. IRAN GHAZI) Bulk Carrier 43,497DWT 25,768GRT HONG KONG flag (IRISL); Vessel Registration Identification IMO 8309672 (Hong Kong) (vessel) [NPWMD].

12. ALAMEDA (a.k.a. IRAN DOLPHIN) Bulk Carrier 43,480DWT 25,770GRT HONG KONG flag (IRISL); Vessel Registration Identification IMO 8320195 (Hong Kong) (vessel) [NPWD].

13. ALIAS (a.k.a. DEVOTEE; a.k.a. IRAN DEVOTEE) Bulk Carrier 43,369DWT 25,768GRT HONG KONG flag (IRISL); Vessel Registration Identification IMO 8309608 (vessel) [NPWMD].

14. AMITEES (a.k.a. IRAN JOMHURI) Bulk Carrier 35,828DWT 20,811GRT IRAN flag (IRISL); Vessel Registration Identification IMO 7632826 (vessel) [NPWMD].

15. AMPLIFY (a.k.a. DIPLOMAT; a.k.a. IRAN DIPLOMAT) Bulk Carrier 43,262DWT 25,768GRT HONG KONG flag (IRISL); Vessel Registration Identification IMO 8309701 (vessel) [NPWMD].

16. ANGEL (a.k.a. DAPPER; a.k.a. IRAN DAPPER) Bulk Carrier 43,499DWT 25,768GRT HONG KONG flag (IRISL); Vessel Registration Identification IMO 8309646 (vessel) [NPWMD].

17. ANIL (a.k.a. DANDY; a.k.a. IRAN DANDY) Bulk Carrier 43,279DWT 25,768GRT HONG KONG flag (IRISL); Vessel Registration Identification IMO 8320157 (vessel) [NPWMD].

18. APOLLO (a.k.a. IRAN DESTINY; a.k.a. IRAN NAVAB) Bulk Carrier 43,329DWT 25,768GRT HONG KONG flag (IRISL); Vessel Registration Identification IMO 8320145 (Hong Kong) (vessel) [NPWMD].

19. AQUARIAN (a.k.a. DIGNIFIED; a.k.a. IRAN DIGNIFIED) Bulk Carrier 43,369DWT 25,768GRT HONG KONG flag (IRISL); Vessel Registration Identification IMO 8309610 (vessel) [NPWMD].

20. ASSA (a.k.a. IRAN ENTEKHAB) Bulk Carrier 35,896DWT 20,811GRT IRAN flag (IRISL); Vessel Registration Identification IMO 7632814 (vessel) [NPWMD].

21. ATLANTIC (a.k.a. DREAMLAND; a.k.a. IRAN DREAMLAND) Bulk Carrier 43,302DWT 25,770GRT HONG KONG flag (IRISL); Vessel Registration Identification IMO 8320183 (vessel) [NPWMD].

22. ATRIUM (a.k.a. IRAN HAMZEH) Bulk Carrier 43,288DWT 25,770GRT HONG KONG flag (IRISL); Vessel Registration Identification IMO 8320171 (Hong Kong) (vessel) [NPWMD].

23. ATTRIBUTE (a.k.a. DIAMOND; a.k.a. IRAN DIAMOND) Bulk Carrier 43,369DWT 25,768GRT HONG KONG flag (IRISL); Vessel Registration Identification IMO 8309593 (vessel) [NPWMD].

24. BARSAM (a.k.a. IRAN SHARIT) Bulk Carrier 44,441DWT 25,168GRT IRAN flag (IRISL); Vessel Registration Identification IMO 8107581 (vessel) [NPWMD].

25. BLUEBELL (a.k.a. IRAN GILAN) Bulk Carrier 63,400DWT 39,424GRT MALTA flag (IRISL); Vessel Registration Identification IMO 9193202 (vessel) [NPWMD].

26. CHASTITY (a.k.a. IRAN SHAAFI; a.k.a. SHAAFI) Bulk Carrier 53,000DWT 32,474GRT MALTA flag (IRISL); Vessel Registration Identification IMO 9386500 (vessel) [NPWMD].

27. CHIMES (a.k.a. IRAN VAAFI; a.k.a. VAAFI) Bulk Carrier 53,000DWT 32,474GRT MALTA flag (IRISL); Vessel Registration Identification IMO 9387786 (vessel) [NPWMD].

28. DAFFODIL (a.k.a. ELEVENTH OCEAN) Container Ship 41,962DWT 36,014GRT GERMANY flag (IRISL); Vessel Registration Identification IMO 9209324 (Germany) (vessel) [NPWMD].

29. DANDELION (a.k.a. IRAN NEW STATE; a.k.a. NEW STATE) Container Ship 41,937DWT 36,014GRT MALTA flag (IRISL); Vessel Registration Identification IMO 9209336 (vessel) [NPWMD].

30. DANDLE (a.k.a. TWELFTH OCEAN) Container Ship 41,971DWT 36,014GRT GERMANY flag (IRISL); Vessel Registration Identification IMO 9209348 (Germany) (vessel) [NPWMD].

31. DECKER (a.k.a. FIFTH OCEAN) Container Ship 79,030DWT 75,395GRT GERMANY flag (IRISL); Vessel Registration Identification IMO 9349667 (Germany) (vessel) [NPWMD].

32. DECRETIVE (a.k.a. SIXTH OCEAN) Container Ship 79,030DWT 75,395GRT MALTA flag (IRISL); Vessel Registration Identification IMO 9349679 (vessel) [NPWMD].

33. DESPINA (a.k.a. IRAN KOLAHDOOZ) General Cargo 17,982DWT 13,914GRT IRAN flag (IRISL); Vessel Registration Identification IMO 7428809 (vessel) [NPWMD].

34. GABION (a.k.a. SEVENTH OCEAN) General Cargo 22,882DWT 15,670GRT GERMANY flag (IRISL); Vessel Registration Identification IMO 9165786 (Germany) (vessel) [NPWMD].

35. GALAX (a.k.a. NINTH OCEAN) General Cargo 22,882DWT 15,670GRT GERMANY flag (IRISL); Vessel Registration Identification IMO 9165798 (Germany) (vessel) [NPWMD].

36. GARLAND (a.k.a. IRAN LUCKY MAN; a.k.a. LUCKY MAN) General Cargo 22,882DWT 15,670GRT MALTA flag (IRISL); Vessel Registration Identification IMO 9165839 (vessel) [NPWMD].

37. GLADIOLUS (a.k.a. TENTH OCEAN) General Cargo 22,882DWT 15,670GRT GERMANY flag (IRISL); Vessel Registration Identification IMO 9165815 (Germany) (vessel) [NPWMD].

38. GOLDENROD (a.k.a. IRAN LUCKY LILY; a.k.a. LUCKY LILY) General Cargo 22,882DWT 15,670GRT MALTA flag (IRISL); Vessel Registration Identification IMO 9165827 (vessel) [NPWMD].

39. GOMIDAS (a.k.a. IRAN ESTEGHLAL) Bulk Carrier 35,839DWT 20,811GRT IRAN flag (IRISL); Vessel Registration Identification IMO 7620550 (vessel) [NPWMD].

40. HOOTAN (a.k.a. IRAN SEPAH) Bulk Carrier 33,856DWT 20,361GRT IRAN flag (IRISL); Vessel Registration Identification IMO 7375363 (vessel) [NPWMD].

41. HORSHAM (a.k.a. IRAN BAM) Bulk Carrier 73,664DWT 40,166GRT MALTA flag (IRISL); Vessel Registration Identification IMO 9323833 (vessel) [NPWMD].

42. IRAN SAHAR (a.k.a. RA-EES ALI) General Cargo 2,876DWT 2,576GRT IRAN flag (IRISL); Vessel Registration Identification IMO 8203608 (vessel) [NPWMD].

43. KHORASAN (a.k.a. IRAN KHORASAN) Bulk Carrier 72,622DWT 39,424GRT MALTA flag (IRISL); Vessel Registration Identification IMO 9193214 (vessel) [NPWMD].

44. LANCELIN (a.k.a. IRAN YAZD) Bulk Carrier 72,642DWT 40,609GRT CYPRUS flag (IRISL); Vessel Registration Identification IMO 9213387 (vessel) [NPWMD].

45. LANTANA (a.k.a. IRAN OCEAN CANDLE; a.k.a. OCEAN CANDLE) General Cargo 23,176DWT 16,694GRT MALTA flag (IRISL); Vessel Registration Identification IMO 9167253 (vessel) [NPWMD].

46. LAVENDER (a.k.a. IRAN PRETTY SEA (KHUZESTAN); a.k.a. PRETTY SEA) General Cargo 23,116DWT 16,694GRT MALTA flag (IRISL); Vessel Registration Identification IMO 9167277 (vessel) [NPWMD].

47. LILIED (a.k.a. IRAN SEA STATE; a.k.a. SEA STATE) General Cargo 23,176DWT 16,694GRT MALTA flag (IRISL); Vessel Registration Identification IMO 9167265 (vessel) [NPWMD].

48. LIMNETIC (a.k.a. SEA FLOWER) General Cargo 23,176DWT 16,694GRT MALTA flag (IRISL); Vessel Registration Identification IMO 9167289 (Malta) (vessel) [NPWMD].

49. LODESTAR (a.k.a. IRAN SEA BLOOM; a.k.a. SEA BLOOM) General Cargo 23,176DWT 16,694GRT MALTA flag (IRISL); Vessel Registration Identification IMO 9167291 (vessel) [NPWMD].

50. MARGRAVE (a.k.a. IRAN BRAVE) General Cargo 22,950DWT 16,620GRT MALTA flag (IRISL); Vessel Registration Identification IMO 9051650 (vessel) [NPWMD].

51. MARIGOLD (a.k.a. BRIGHTNESS; a.k.a. IRAN BRIGHTNESS) General Cargo 24,065DWT 16,621GRT MALTA flag (IRISL); Vessel Registration Identification IMO 9051648 (vessel) [NPWMD].

52. MARKARID (a.k.a. IRAN DEYANAT) Bulk Carrier 43,150DWT 25,168GRT IRAN flag (IRISL); Vessel Registration Identification IMO 8107579 (vessel) [NPWMD].

53. MULBERRY (a.k.a. BRILLIANCE; a.k.a. IRAN BRILLIANCE) General Cargo 24,065DWT 16,621GRT MALTA flag (IRISL); Vessel Registration Identification IMO 9051636 (vessel) [NPWMD].

54. PANTEA (a.k.a. IRAN ADL) Bulk Carrier 37,537DWT 22,027GRT IRAN flag (IRISL); Vessel Registration Identification IMO 8108559 (vessel) [NPWMD].

55. PARMIDA (a.k.a. IRAN AFZAL) Bulk Carrier 37,564DWT 22,027GRT IRAN flag (IRISL); Vessel Registration Identification IMO 8105284 (vessel) [NPWMD].

56. SAKAS (a.k.a. IRAN PIROOZI) Container Ship 33,835DWT 25,391GRT IRAN flag (IRISL); Vessel Registration Identification IMO 9283007 (vessel) [NPWMD].

57. SEPANTA (a.k.a. IRAN ARDEBIL) Container Ship 37,875DWT 27,681GRT IRAN flag (IRISL); Vessel Registration Identification IMO 9284154 (vessel) [NPWMD].

58. SEPITAM (a.k.a. IRAN ILAM) Container Ship 37,600DWT 27,681GRT IRAN flag (IRISL); Vessel Registration Identification IMO 9283033 (vessel) [NPWMD].

59. SEWAK (a.k.a. IRAN FARS) Container Ship 33,702DWT 25,391GRT IRAN flag (IRISL); Vessel Registration Identification IMO 9283021 (vessel) [NPWMD].

60. SHERE (a.k.a. IRAN TABAS) Bulk Carrier 73,586DWT 40,166GRT MALTA flag (IRISL); Vessel Registration Identification IMO 9305192 (vessel) [NPWMD].

61. SILVER CRAFT (a.k.a. IRAN KERMAN) Container Ship 41,978DWT 36,014GRT MALTA flag (IRISL); Vessel Registration Identification IMO 9209350 (vessel) [NPWMD].

62. SILVER ZONE (a.k.a. IRAN BUSHEHR) Container Ship 30,146DWT 23,285GRT MALTA flag (IRISL); Vessel Registration Identification IMO 9270658 (Malta) (vessel) [NPWMD].

63. SIMBER (a.k.a. IRAN YASOOJ) Container Ship 33,813DWT 25,391GRT IRAN flag (IRISL); Vessel Registration Identification IMO 9284142 (vessel) [NPWMD].

64. TABAK (a.k.a. IRAN AMANAT) Bulk Carrier 34,859DWT 20,576GRT IRAN flag (IRISL); Vessel Registration Identification IMO 8112990 (vessel) [NPWMD].

65. TONGHAM (a.k.a. IRAN BIRJAND) Bulk Carrier 73,664DWT 40,166GRT MALTA flag (IRISL); Vessel Registration Identification IMO 9305219 (vessel) [NPWMD].

66. TUCHAL (a.k.a. IRAN TUCHAL) Container Ship 66,900DWT 53,453GRT MALTA flag (IRISL); Vessel Registration Identification IMO 9346536 (vessel) [NPWMD].

67. UPPERCOURT (a.k.a. IRAN BOJNOORD) Bulk Carrier 73,518DWT 40,166GRT MALTA flag (IRISL); Vessel Registration Identification IMO 9305207 (vessel) [NPWMD].

68. VALILI (a.k.a. IRAN ARAK) Container Ship 29,870DWT 23,200GRT MALTA flag (IRISL); Vessel Registration Identification IMO 9270646 (Malta) (vessel) [NPWMD].

69. VISEA (a.k.a. IRAN ZANJAN) Container Ship 33,757DWT 25,391GRT IRAN flag (IRISL); Vessel Registration Identification IMO 9283019 (vessel) [NPWMD].

70. VOBSTER (a.k.a. IRAN PERSIAN GULFL a.k.a. PERSIAN GULF) Bulk Carrier 73,664DWT 40,166GRT MALTA flag (IRISL); Vessel Registration Identification IMO 9305221 (vessel) [NPWMD].

71. ZAWA (a.k.a. IRAN AZARBAYJAN) Bulk Carrier 72,642DWT 39,424GRT IRAN flag (IRISL); Vessel Registration Identification IMO 9193185 (vessel) [NPWMD].

Dated: September 27, 2010.
Adam J. Szubin,
Director, Office of Foreign Assets Control.

[FR Doc. 2010-25135 Filed 10-5-10; 8:45 am]

BILLING CODE 4810-AL-P